ENVIRONMENTAL PROTECTION AGENCY

[OPP-00707; FRL-6772-8]

EPA-USDA Committee to Advise on Reassessment and Transition (CARAT); Notice of Public Workshop on Drinking Water Assessment Methodology

AGENCY: Environmental Protection Agency (EPA).

ACTION: Notice of public workshop.

SUMMARY: The Environmental Protection Agency (EPA)-U.S.Department of Agriculture (USDA) Committee to Advise on Reassessment and Transition (CARAT) will hold a public workshop on February 28, 2001. This workshop will demonstrate the process used to assess the concentrations of pesticide residues in surface and ground water sources of drinking water. An agenda is available on our website at www.epa.gov/pesticides/carat/. It will include a description of the tiered approach that is used to determine concentrations of pesticides in drinking water for the Food Quality Protection Act (FQPA) dietary human health risk assessments, an explanation of the models used at each tier, how monitoring data are factored into the risk assessments, and a case study which is intended to demonstrate the assessment process for an actual reregistration of a pesticide. Planned improvements and future directions for drinking water assessments will also be discussed.

DATES: The workshop will be held on February 28, 2001 from 9 a.m. to 4 p.m.

ADDRESSES: The meeting will be held at the Radisson Hotel Old Town, 901 North Fairfax Street, Alexandria, VA 22314; telephone number (703) 683-6000.

FOR FURTHER INFORMATION CONTACT: Margie Fehrenbach or Terria Northern, Office of Pesticide Programs (7501C), Environmental Protection Agency, Ariel Rios Bldg., 1200 Pennsylvania Ave., NW., Washington, DC 20460; telephone number: (703) 308-4775 or (703) 305-7093; fax number: (703) 308-4776; e-mail address: fehrenbach.margie@epa.gov or northern.terria@epa.gov.

SUPPLEMENTARY INFORMATION:

I. Does this Action Apply to Me?

This action is directed to the public in general. This action may, however, be of interest to persons who are concerned about implementation of the FQPA (Pub. L. 104-170). Passed in 1996, this new law strengthens the nation's system for regulating pesticides on food. CARAT is preceded by the Tolerance Reassessment Advisory Committee which was established in 1998 in order for EPA and USDA to work together to ensure smooth implementation of FQPA. Since other entities may also be interested, the Agency has not attempted to describe all the specific entities that may be affected by this action. If you have any questions regarding the applicability of this action to a particular entity, consult the person listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about CARAT, go directly to the Home Page for EPA's Office of Pesticide Programs at http://www.epa.gov/pesticides/carat.

2. In person. The Agency has established an official record for this meeting under docket control number OPP-00707. The official record consists of the documents specifically referenced in this notice, any public comments received during an applicable comment period, and other information related to the CARAT. This official record includes the documents that are physically located in the docket, as well as the documents that are referenced in those documents. The public version of the official record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

III. Background

CARAT was established in accordance with the Federal Advisory Committee Act as a subcommittee under the auspices of the EPA National Advisory Council for Environmental Policy and Technology (NACEPT). The purpose of CARAT is to provide advice and counsel to the Administrator of EPA and the Secretary of Agriculture regarding strategic approaches for pest management planning and tolerance reassessment for pesticides as required by the FQPA of 1996. CARAT is preceded by the Tolerance Reassessment Advisory Committee and is guided by the principles set forth by the Vice President for EPA and the USDA to work together to ensure smooth implementation of FQPA through use of sound science, consultation with stakeholders, increased transparency, and reasonable transition for agriculture. CARAT is composed of experts that include farmers, environmental/public interest groups, public health officials, pediatric experts, pesticide trade associations and manufacturers, food processors and distributors, academicians, and tribal, State and local governments.

IV. How Can I Participate in this Workshop?

CARAT meetings and workshops are open to the public under section 10(a)(2) of the Federal Advisory Committee Act (Pub. L. 92-463). Outside statements by observers are welcome. Oral statements will be limited to 3-5 minutes, and it is preferred that only 1 person per organization present the statement. Any person who wishes to file a written statement may do so before or after the workshop. These statements will become part of the permanent record and will be available for public inspection at the address listed in Unit II.2. of this document.

List of Subjects

Environmental protection, Agriculture, Chemicals, Drinking water, Foods, Pesticides, and Pests.

Dated: February 16, 2001.
Joseph J. Merenda,
Acting Director, Office of Pesticide Programs.

[FR Doc. 01-4779 Filed 2-22-01; 2:56 pm]

BILLING CODE 6560-50-S